DEPARTMENT OF HOMELAND SECURITY

[Docket No. DHS-2022-0001]

Notice of Public Hearing on the Use of Forced Labor in the People's Republic of China and Measures To Prevent the Importation of Goods Produced, Mined, or Manufactured, Wholly or in Part, With Forced Labor in the People's Republic of China Into the United States

AGENCY: Department of Homeland Security.

ACTION: Notice of public hearing.

SUMMARY: The Forced Labor Enforcement Task Force (FLETF) will hold a public hearing, as required by the Uyghur Forced Labor Prevention Act, on the use of forced labor in the People's Republic of China and potential measures to prevent the importation of goods mined, produced, or manufactured wholly or in part with forced labor in the People's Republic of China into the United States. This hearing will be held remotely via web conference.

DATES: The Forced Labor Enforcement Task Force (FLETF) will hold the hearing on Friday, April 8, 2022, starting at 9 a.m. and ending at 1:30 p.m. EDT. Members of the public interested in providing public testimony must register by Wednesday, March 30, 2022, 11:59 p.m. EDT; instructions on how to register are included in ADDRESSES. Please note that the hearing may close early, or run over time, depending on the number of registered speakers. Allocation of time within the event may shift based on participation and registration per topic area, as listed in SUPPLEMENTARY INFORMATION.

ADDRESSES: The hearing will be held remotely via web conference. Members of the public interested in providing public testimony at the hearing must register at the following link, https://forms.office.com/g/fC8AeiDEbQ, by Wednesday, March 30, 2022, 11:59 p.m. EDT. You must indicate in the registration form that you want to speak by selecting “provide public testimony” in question 6 (explaining how you are “requesting to” participate). You must register for the public hearing with the same email address that you plan to use to login to attend the public hearing. When registering, identify the topic area on which you would like to speak. More information regarding the list of topics is included in SUPPLEMENTARY INFORMATION below.

Members of the public interested in attending in listen-only mode can register at the same link, https://forms.office.com/g/fC8AeiDEbQ, by selecting “attend (listen only)” in question 6 (explaining how you are “requesting to” participate). You must register for the public hearing by 11:59 p.m. EDT on April 6, 2022 to ensure you will receive the conference link. The conference link will be provided to all registrants by 8:00 a.m. EDT on Friday, April 8, 2022.

Reasonable accommodations are available for people with disabilities. To request a reasonable accommodation, contact the person listed in the FOR FURTHER INFORMATION CONTACT section below as soon as possible. DHS is considering providing interpretation services for those interested in providing public testimony in the following languages: Spanish, Mandarin, and Uyghur. It is requested that you advise the FLETF accordingly when registering to participate, at the same registration link, https://forms.office.com/g/fC8AeiDEbQ.

Written comments related to this public hearing were submitted through the Federal eRulemaking Portal at https://www.regulations.gov/ and posted. For access to the docket and to read comments received by the FLETF, go to https://www.regulations.gov/ and search for Docket ID DHS-2022-0001.

FOR FURTHER INFORMATION CONTACT: Cynthia Echeverria, Acting Director of Trade Policy, Trade and Economic Security, Office of Strategy, Policy, and Plans, U.S. Department of Homeland Security (DHS) at 202-938-6365 or FLETF.PUBLIC.COMMENTS@hq.dhs.gov.

SUPPLEMENTARY INFORMATION: In accordance with the Uyghur Forced Labor Prevention Act (UFLPA),¹ this notice announces that DHS, on behalf of the FLETF,² will hold a public hearing that will allow for public testimony on the use of forced labor in the People's Republic of China (PRC) and potential measures to prevent the importation of goods, wares, articles, and merchandise mined, produced, or manufactured wholly or in part with forced labor in the PRC into the United States. The hearing will consider measures that can be taken to trace the origin of goods, offer greater supply chain transparency, and identify third country supply chain routes for goods mined, produced, or manufactured wholly or in part with forced labor in the PRC, as well as other measures for ensuring that such goods do not enter the United States.

¹ See Public Law 117-78, section 2(b).

² Section 741 of the United States-Mexico-Canada Agreement Implementation Act (19 U.S.C. 4681) established the FLETF to monitor U. S. enforcement of the prohibition under Section 307 of the Tariff Act of 1930, as amended (19 U.S.C. 1307).

The FLETF invites the public to speak during the hearing, and recommends that interested parties review the Notice that requested comments on the measures described by the UFLPA.³ Members of the public who are interested in speaking during this hearing should register in accordance with the directions in the ADDRESSES section of this notice. If you register to provide public testimony, you will be called upon using the name you provide during registration to offer public testimony. If you wish to highlight your affiliation with an association, organization, or corporation, you must provide this information during your remarks. We also request that each speaker limit their comments to three minutes. The hearing will be broken into sections based on topics in the order below. If DHS provides interpretation services for public testimony based on public request, public testimony requiring interpretation services will occur after the remarks to open the hearing. Each speaker will be called on during the section related to the topic that speaker identified during registration. The order of topics is as follows:

³ See, Notice seeking Public Comments on Methods to Prevent the Importation of Goods Mined, Produced, or Manufactured with Forced labor in the People's Republic of China, Especially in the Xinjiang Uyghur Autonomous Region, Into the United States, 87 FR 3567 (Jan. 24, 2022).

• Forced Labor Schemes in Xinjiang and the PRC;

• Risks of Importing Goods Made Wholly or in Part with Forced Labor;

• Measures That Can Be Taken to Trace the Origin of Goods and to Offer Greater Supply Chain Transparency;

• Measures That Can Be Taken to Identify Third Country Supply Chain Routes;

• Factors To Consider in Developing and Maintaining the Required Entities List;

• High Priority Sectors, Including Cotton, Tomato, and/or Polysilicon Supply Chains, for Enforcement;

• Needed Importer Guidance;

• Opportunities for Coordination and Collaboration; and,

• Other General Comments Related to the Uyghur Forced Labor Prevention Act and Comments Covering Multiple Topics.

Speakers may submit supplemental written testimony.⁴ Written testimony should be submitted to the email provided in ADDRESSES (FLETF.PUBLIC.COMMENTS@hq.dhs.gov). Please use the email used to register for the public hearing to submit supplemental written testimony in .doc, .docx or .pdf form by April 8, 2022 at 9 a.m. The public hearing transcript and all written testimony, submitted according to the above guidelines, will be posted in Docket No. DHS-2022-0001 after the public hearing. Confidential information should not be provided through the public hearing process, in either written or oral testimony. The FLETF cannot accept any written testimony that is hand-delivered, couriered, or mailed at this time. This hearing along with all comments will be recorded and transcribed.

⁴ Written testimony will only be accepted from speakers providing oral testimony.

Senior officials of the interagency members represented in the FLETF, including the FLETF Chair (DHS Undersecretary for Strategy, Policy, and Plans),⁵ will make remarks to open the hearing, and will continue to observe the hearing unless called away for official responsibilities. Staff from each of the FLETF interagency members will be present throughout the entirety of the hearing to take note of the public testimony. As mentioned above, this public hearing will be recorded and transcribed.

⁵ Pursuant to DHS Delegation Order No.23034, the DHS Under Secretary for Strategy, Policy, and Plans serves as the Chair of the FLETF.

On January 24, 2022, DHS, on behalf of the FLETF, published a notice document (Notice) requesting public comments on how best to ensure that goods, wares, articles, and merchandise mined, produced, or manufactured wholly or in part with forced labor in the PRC are not imported into the United States. See 87 FR 3567. DHS and the FLETF recommend that members of the public that will attend the hearing review the Notice in advance.

The FLETF will use the comments received from the Notice and information gathered from this public hearing to inform the development of the strategy required by the UFLPA.⁶ The FLETF will consider all comments and information received during this public hearing.

⁶ See Public Law 117-78, section 2(c).

Robert Silvers,
Under Secretary, Office of Strategy, Policy, and Plans.

[FR Doc. 2022-05738 Filed 3-15-22; 4:15 pm]

BILLING CODE P